DEPARTMENT OF ENERGY

Federal Energy Regulatory Commission

[Docket No. MT00-7-000]

K N Wattenberg Transmission Limited Liability Co.; Notice of Tariff Filing

May 10, 2000.

Take notice that on May 4, 2000 K N Wattenberg Transmission Limited Liability Co. (KNWT) tendered for filing revisions to its FERC Gas Tariff, First Revised Volume No. 1, First Revised Sheet No. 2, Second Revised Sheet No. 63, and First Revised Sheet No. 64.

KNWT states that on April 5, 2000 Kinder Morgan, Inc. (KMI) closed on a transaction with ONEOK, Inc. (ONEOK) whereby various assets and entities were transferred to ONEOK, including all entities that were then marketing affiliates of KMIGT. As a result of the transaction, KMI states that it no longer has a marketing affiliate and is revising the tariff accordingly.

Any person desiring to be heard or to protest said filing should file a motion to intervene or a protest with the Federal Energy Regulatory Commission, 888 First Street, N.E., Washington, D.C. 20426, in accordance with Sections 385.214 or 385.211 of the Commission Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at hppt://www.ferc.fed.us/online/rims.htm (call 202-208-2222 for assistance).

David P. Boergers,
Secretary.

[FR Doc. 00-12220 Filed 5-15-00; 8:45 am]

BILLING CODE 6717-01-M